DEPARTMENT OF HEALTH AND HUMAN SERVICES

National Institutes of Health

National Eye Institute; Amended Notice of Meeting

Notice is hereby given of a change in the meeting of the National Advisory Eye Council, June 10, 2004, 8:30 a.m. to June 11, 2004, 12 p.m., Hyatt Regency Bethesda, One Bethesda Metro Center, 7400 Wisconsin Avenue, Bethesda, MD 20814 which was published in the Federal Register on May 17, 2004, 69 FR 27930.

The meeting will be held on Thursday, June 10, 2004, one day only. The meeting is partially closed to the public.

Dated: May 24, 2004.
LaVerne Y. Stringfield,
Director, Office of Federal Advisory Committee Policy.

[FR Doc. 04-12150 Filed 5-27-04; 8:45 am]

BILLING CODE 4140-01-M